DEPARTMENT OF HEALTH AND HUMAN SERVICES

Centers for Disease Control and Prevention

[30Day-09-0743]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Assessment and Monitoring of Breastfeeding-Related Maternity Care Practices in Intra-partum Care Facilities in the United States and Territories (OMB Control No. 0920-0743, Exp. 7/31/2009)-Revision-National Center for Chronic Disease Prevention and Health Promotion (NCCDPHP), Centers for Disease Control and Prevention (CDC).

Background and Brief Description

Substantial evidence demonstrates the health benefits of breastfeeding. Breastfeeding mothers have lower risks of breast and ovarian cancers and type 2 diabetes, and breastfeeding better protects infants against infections, chronic diseases like diabetes and obesity, and even childhood leukemia and sudden infant death syndrome (SIDS). However, the groups that are at higher risk for diabetes, obesity, and poor health overall persistently have the lowest breastfeeding rates. Public health priorities for the U.S. include increasing the overall rate of breastfeeding, and reducing variation in breastfeeding rates across population subgroups.

The health care system is one of the most important and effective settings to improve breastfeeding. In 2007, CDC conducted the first national survey of Maternity Practices in Infant Nutrition and Care (known as the mPINC Survey) in health care facilities (hospitals and free-standing childbirth centers). The survey was designed to provide baseline information and to be repeated again in 2009. It inquired about patient education and support for breastfeeding throughout the maternity stay as well as staff training and maternity care policies. Each responding organization received a customized Benchmark Report as well as other feedback to use in self-assessment and quality improvement activities.

CDC proposes to repeat the mPINC in 2009 using previously fielded questions and methodology. In addition to all facilities that participated in 2007, the 2009 survey will include those that were invited but did not participate in 2007 and any that are new since then. All birth centers and hospitals with ≥ 1 registered maternity beds will be screened via a brief phone call to assess their eligibility, identify additional locations, and identify the appropriate point of contact.

A major goal of the 2009 survey is to be fully responsive to respondents' needs for information and technical assistance. CDC will again provide customized benchmark reports to respondents and document progress since 2007 on their quality improvement efforts. National and state reports will use de-identified data to describe incremental changes in practices and care processes over time at the facility, state, and national levels.

Participation in the survey is voluntary, and responses may be submitted by mail or through a web-based system. There are no costs to respondents other than their time. The total estimated annualized burden hours are 1,686.

Estimated Annualized Burden Hours
Type of respondents | Form name | Number of respondents | Number of responses per respondent | Average burden per response (in hours)
Hospitals | Telephone Screening Interview for Hospitals | 3,897 | 1 | 5/60
| 2009 mPINC Survey for Hospitals | 2,568 | 1 | 30/60
Birth Centers | Telephone Screening Interview for Birth Centers | 192 | 1 | 5/60
| 2009 mPINC Survey for Birth Centers | 122 | 1 | 30/60

Dated: May 26, 2009.
Maryam I. Daneshvar,
Acting Reports Clearance Officer, Centers for Disease Control and Prevention.

[FR Doc. E9-12631 Filed 5-29-09; 8:45 am]

BILLING CODE 4163-18-P